NUCLEAR REGULATORY COMMISSION

Advisory Committee on the Medical Uses of Isotopes: Meeting Notice

AGENCY: U.S. Nuclear Regulatory Commission.

ACTION: Notice of meeting.

SUMMARY: The U.S. Nuclear Regulatory Commission (NRC) will convene a meeting of the Advisory Committee on the Medical Uses of Isotopes (ACMUI) on June 17, 2024 to discuss the ACMUI's subcommittee report on the NRC staff's proposed changes to NRC's requirements for medical use of byproduct material to address reporting of nuclear medicine injection extravasations as medical events. Meeting information, including a copy of the agenda and handouts, will be available on the ACMUI's Meetings and Related Documents web page at https://www.nrc.gov/reading-rm/doc-collections/acmui/meetings/2024.html or by emailing Ms. L. Armstead at the contact information below.

DATES: June 17, 2024, from 2:00 p.m. to 4:00 p.m. Eastern Time.

ADDRESSES: This is a virtual meeting.

Date | Webinar information (Microsoft Teams)
June 17, 2024 | Link: https://teams.microsoft.com/l/meetup-join/19%3ameeting_ZTQ4MWIwYjctYmFiYi00ZDJlLTgzZWUtMTEzZGUzYThlMjA0%40thread.v2/0?context=%7b%22Tid%22%3a%22e8d01475-c3b5-436a-a065-5def4c64f52e%22%2c%22Oid%22%3a%22304f46bf-32c2-4e0f-912c-878db895e74a%22%7d.
| Meeting ID: 225 263 585 84.
| Passcode: uGphXp.
| Call in number (audio only): +301-576-2978, United States, Silver Spring.
| Phone Conference ID: 558 124 30#.

Public Participation: The meeting will be held using Microsoft Teams. Any member of the public who wishes to participate in the meeting via Microsoft Teams or via phone can use the information provided above or should contact Ms. L. Armstead. Members of the public should also monitor the NRC's Public Meeting Schedule at https://www.nrc.gov/pmns/mtg for any meeting updates.

FOR FURTHER INFORMATION CONTACT: Ms. L. Armstead, email: lxa5@nrc.gov, telephone: 301-415-1650.

SUPPLEMENTARY INFORMATION:

Conduct of the Meeting

The ACMUI Chair, Dr. Hossein Jadvar will preside over the meeting. Dr. Jadvar will conduct the meeting in a manner that will facilitate the orderly conduct of business. The following procedures apply to public participation in the meeting:

1. Persons who wish to provide a written statement should submit an electronic copy to Ms. L. Armstead using the contact information listed above. All submittals must be received by the close of business on June 11, 2024, and must only pertain to the topics on the agenda.

2. Questions and comments from members of the public will be permitted during the meeting, at the discretion of the ACMUI Chair.

3. The draft transcript and meeting summary will be available on ACMUI's website https://www.nrc.gov/reading-rm/doc-collections/acmui/meetings/2024.html on or about July 31, 2024.

4. Persons who require special services, such as those for the hearing impaired, should notify Ms. L. Armstead of their planned participation.

This meeting will be held in accordance with the Atomic Energy Act of 1954, as amended (primarily Section 161a); the Federal Advisory Committee Act (5 U.S.C. App); and the Commission's regulations in Title 10 of the Code of Federal Regulations, Part 7.

Dated at Rockville, Maryland, this 29th day of May, 2024.
For the U.S. Nuclear Regulatory Commission.
Russell E. Chazell,
Federal Advisory Committee Management Officer.

[FR Doc. 2024-12103 Filed 6-3-24; 8:45 am]

BILLING CODE 7590-01-P